DEPARTMENT OF LABOR

Employment and Training Administration

Notice of a Change in Status of the Extended Benefit (EB) Program for Vermont

AGENCY: Employment and Training Administration, Labor.

ACTION: Notice.

This notice announces a change in benefit payment status under the EB program for Vermont.

The following change has occurred since the publication of the last notice regarding Vermont's EB status:

Vermont's 13-week insured unemployment rate (IUR) for the week ending April 18, 2020 was 6.27 percent, which exceeds 120 percent of the corresponding rate in the prior two years. This IUR caused Vermont to be triggered “on” to an EB period that began May 3, 2020. The State will remain in an EB period for a minimum of 13 weeks.

The trigger notice covering state eligibility for the EB program can be found at: http://oui.doleta.gov/unemploy/claims_arch.asp.

Information for Claimants

The duration of benefits payable in the EB program and the terms and conditions on which they are payable are governed by the Federal-State Extended Unemployment Compensation Act of 1970, as amended, and the operating instructions issued to the states by the U.S. Department of Labor. In the case of a state beginning an EB period, the State Workforce Agency will furnish a written notice of potential entitlement to each individual who has exhausted all rights to regular benefits and is potentially eligible for EB (20 CFR 615.13(c)(1)).

Persons who believe they may be entitled to EB, or who wish to inquire about their rights under the program, should contact their State Workforce Agency.

FOR FURTHER INFORMATION CONTACT: U.S. Department of Labor, Employment and Training Administration, Office of Unemployment Insurance Room S-4524, Attn: Kevin Stapleton, 200 Constitution Avenue NW, Washington, DC 20210, telephone number: (202)-693-3009 (this is not a toll-free number) or by email: Stapleton.Kevin@dol.gov.

Signed in Washington, DC.
John Pallasch,
Assistant Secretary for Employment and Training.

[FR Doc. 2020-10558 Filed 5-15-20; 8:45 am]

BILLING CODE 4510-FW-P